ENVIRONMENTAL PROTECTION AGENCY

[ER-FRL-8588-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080340, ERP No. D-FHW-J40184-UT, SR-262; Montezuma Creek to Aneth Project, Improvements to the Intersection of SR-162, SR-262, and County Road (CR) 450 in Montezuma Creek, Funding, Navajo Nation, San Juan County, UT.

Summary: EPA expressed environmental concerns about increased sedimentation and erosion impacts, additional impacts to drainage channels and habitat connectivity, and cumulative impacts to water quality and wildlife. Rating EC2.

EIS No. 20080370, ERP No. D-AFS-K65347-CA, Gemmill Thin Project, Proposal to Reduce the Intensity and Size of Future Wildfires, and to Maintain/Improve Ecosystem Function and Wildlife Habitat, Chanchellula Late-Success ional Reserve, Shasta-Trinity National Forest, Trinity County, CA.

Summary: EPA expressed environmental concerns about impacts to air quality, and requested additional mitigation measures. EPA also expressed environmental concerns about impacts to communities. Rating EC2.

EIS No. 20080397, ERP No. D-AFS-J65525-00, Hermosa Landscape Grazing Analysis Project, Proposes to Continue to Authorize Livestock Grazing Cascade Reservoir, Dutch Creek, Elbert Creek, Hope Creek South Fork, and Upper Hermosa Allotments, Columbine Ranger District, San Juan National Forest, LaPlata and San Juan Counties, CO.

Summary: EPA expressed environmental concerns about impacts to water quality, and requested a commitment to monitoring and protection of at-risk riparian areas. Rating EC2.

EIS No. 20080302, ERP No. DB-UAF-E11056-FL, Eglin Air Force Base (AFB) and Hurlburt Field, Proposes to Implement the Military Housing Privatization Initiative (MHPI), FL.

Summary: EPA expressed environmental concerns about impacts to air quality from construction activities. Rating EC2.

EIS No. 20080352, ERP No. DS-COE-G39047-00, White River Minimum Flood Study, To Provide an Improved Minimum Flow for the Benefit of the Tail Water Fishery, White River Basin Lakes: Beaver, Table Rock, and Bull Shoal Lakes on the White River; Norfork Lake on the North Fork White River; and Greens Ferry Lake on the Little Red River, AR and MO.

Summary: No formal comment letter was sent to the preparing agency. Rating LO.

Final EISs

EIS No. 20080321, ERP No. F-FHW-K40267-CA, Phase I-CA 11 Corridor Location and Route Adoption and Location Identification of the Otay Mesa East Port of Entry (POE) on Otay Mesa, Presidential Permit for the POE and Acquisition of Right-Of-Way Permit, San Diego County, CA.

Summary: EPA continues to have environmental concerns about impacts from induced growth and the lack of information on mobile source air toxics.

EIS No. 20080338, ERP No. F-FHW-J40180-UT, UT-108 Transportation Improvement Project, To Improve Local and Regional Mobility from UT-108 between UT-127 (Antelope Drive) to UT-126 (1900 West) Located in Syracuse, West Point and Clinton in Dave County, and Roy and West Haven in Weber County, UT.

Summary: EPA continues to have environmental concerns about mobile source air toxics. However, EPA is pleased that FHWA has addressed previous concerns raised about other construction emission BMPs and mitigation measures for impacts to sensitive receptors.

EIS No. 20080367, ERP No. F-FHW-J40178-UT, Mountain View Corridor (MVC) Project, Proposed Transportation Improvement 2030 Travel Demand in Western Salt Lake County south of I-80 and west of Bangerter Highway and in northwestern Utah County of I-15, south of the Salt Lake County Line, and north of Utah Lake, Salt Lake and Utah County, UT.

Summary: EPA continues to have environmental concerns about the analysis of mobile source air toxics.

EIS No. 20080412, ERP No. F-FRA-C50016-UT, Portal Bridge Capacity Enhancement Project, To Replace the nearly 100-Year-Old Portal Bridge and Eliminate Capacity Constraints on the Northeast Corridor between Swift Interlocking and Secaucus Transfer Station, Funding, U.S. Army Corp Section 10 and 404 Permits, Hackensack River, Hudson County, NJ.

Summary: EPA has environmental concerns about the general air conformity and mitigation for wetlands impacts.

EIS No. 20080417, ERP No. F-UAF-E15001-FL, Eglin Air Force Base Program, Base Realignment and Closure (BRAC) 2005 Decisions and Related Action, Implementation, FL.

Summary: EPA has environmental concerns about impacts to air quality from the BRAC relocation activities and noise exposure from the introduction of the F-35 aircraft.

EIS No. 20080425, ERP No. F-NOA-C91006-00, Amendment 4 to the Spiny Lobster Fishery Management Plan of Puerto Rico and the U.S. Virgin Islands and Amendment 8 to the Spiny Lobster Fishery Management Plan of the Gulf of Mexico and South Atlantic, To Address the Harvest and Exportation of Undersized Lobster Tails to the United States.

Summary: EPA does not object to the proposed project.

EIS No. 20080427, ERP No. F-AFS-F65071-WI, Medford Aspen Project, Preferred Alternative is Alternative 3, To Implement a Number of Vegetation and Transportation Management Activities, Medford-Park Falls Ranger District, Chequamegon-Nicolet National Forest, Taylor County, WI.

Summary: EPA does not object to the proposed action.

Dated: November 24, 2008.
Robert W. Hargrove,
Director, NEPA Compliance Division, Office of Federal Activities.

[FR Doc. E8-28320 Filed 11-26-08; 8:45 am]

BILLING CODE 6560-50-P